DEPARTMENT OF DEFENSE

Department of the Army

[Docket ID USA-2014-0034]

Privacy Act of 1974; System of Records

AGENCY: Department of the Army, DoD.

ACTION: Notice to add a new System of Records.

SUMMARY: The Department of the Army proposes to add a new system of records, A0040-66 ARNG, Medical Readiness and Waivers Records, in its inventory of record systems subject to the Privacy Act of 1974, as amended. This system is used by the Army National Guard (ARNG) and U.S. Army Reserves (USAR) Surgeons to support recruiting and medical readiness of personnel in the Reserve Components.

DATES: Comments will be accepted on or before October 17, 2014. This proposed action will be effective the day following the end of the comment period unless comments are received which result in a contrary determination.

ADDRESSES: You may submit comments, identified by docket number and title, by any of the following methods:

* Federal Rulemaking Portal: http://www.regulations.gov. Follow the instructions for submitting comments.

* Mail: Federal Docket Management System Office, 4800 Mark Center Drive, East Tower, 2nd Floor, Suite 02G09, Alexandria, VA 22350-3100.

Instructions: All submissions received must include the agency name and docket number for this Federal Register document. The general policy for comments and other submissions from members of the public is to make these submissions available for public viewing on the Internet at http://www.regulations.gov as they are received without change, including any personal identifiers or contact information.

FOR FURTHER INFORMATION CONTACT: Mr. Leroy Jones, Jr., Department of the Army, Privacy Office, U.S. Army Records Management and Declassification Agency, 7701 Telegraph Road, Casey Building, Suite 144, Alexandria, VA 22325-3905 or by calling (703) 428-6185.

SUPPLEMENTARY INFORMATION: The Department of the Army notices for systems of records subject to the Privacy Act of 1974 (5 U.S.C. 552a), as amended, have been published in the Federal Register and are available from the address in FOR FURTHER INFORMATION CONTACT or at http://dpclo.defense.gov/. The proposed system report, as required by 5 U.S.C. 552a(r) of the Privacy Act of 1974, as amended, was submitted on June 27, 2013, to the House Committee on Oversight and Government Reform, the Senate Committee on Governmental Affairs, and the Office of Management and Budget (OMB) pursuant to paragraph 4c of Appendix I to OMB Circular No. A-130, “Federal Agency Responsibilities for Maintaining Records About Individuals,” dated February 8, 1996 (February 20, 1996, 61 FR 6427).

Dated: September 11, 2014.
Aaron Siegel,
Alternate OSD Federal Register Liaison Officer, Department of Defense.

A0040-66 ARNG

System name:

Medical Readiness and Waivers Records.

System location:

National Guard Bureau, Office of the Chief Surgeon, Army National Guard Readiness Center, 111 South George Mason Drive, Arlington VA 22204-1373.

Categories of individuals covered by the system:

Members of the Army National Guard in Title 32 status and/or Title 10 status; members of the U.S. Army Reserves in Title 10 status; and prospects for accession into the Army National Guard.

Note: Title 32 status: On active duty but remain a member of a state National Guard. Title 10 status: Considered to be an active duty member of the U.S. Army.

Categories of records in the system:

Name, Unit, unit address, Unit Identification Code, telephone number, email address, DoD ID Number, Social Security Number (SSN), internal tracking identification number, medical treatment records used to document physical and psychological health; and dental records. These records may include records of inpatient and/or outpatient status to include records of all forms of treatment at non-military medical treatment facilities.

Authority for maintenance of the system:

10 U.S.C. 3013, Secretary of the Army; 10 U.S.C. 1071-1085, Medical and Dental Care; 50 U.S.C. Supplement IV, Appendix 454, as amended, Persons liable for training and service; 42 U.S.C. Chapter 117, Sections 11131-11152, Reporting of Information; 10 U.S.C. 1097a and 1097b TRICARE Prime and TRICARE Program; 10 U.S.C. 1079, Contracts for Medical Care for Spouses and Children; 10 U.S.C. 1079a, CHAMPUS; 10 U.S.C. 1086, Contracts for Health Benefits for Certain Members, Former Members, and Their Dependents; 10 U.S.C. 1095, as amended by Pub. L. 99-272, Health care services incurred on behalf of covered beneficiaries: Collection from third-party payers; DoD Instruction 6130.03, Medical Standards for Appointment, Enlistment, or Induction in the Military Services; Army Regulation 40-68, Clinical Quality Management; DoD Directive 6040.37, Confidentiality of Medical Quality Assurance (QA) Records; DoD 6010.8-R, Civilian Health and Medical Program of the Uniformed Services (CHAMPUS); Army Regulation 40-66, Medical Record Administration and Health Care Documentation; Army Regulation 40-501, Standards of Medical Fitness; USAREC Regulation 601-56, Waiver, Future Soldier Program Separation, and Void Enlistment Processing Procedures; and E.O. 9397 (SSN), as amended.

Purpose(s):

This system is used by the Army National Guard (ARNG) and U.S. Army Reserves (USAR) Surgeons to support recruiting and medical readiness of personnel in the Reserve Components. The primary functions of this system are to aid in the continuity of care of Guardsmen and Reservists and to assist in determining the medical and psychological suitability of persons for service or assignment. This distinct record set is necessary due to the unique nature of the ARNG and USAR which typically do not receive their routine medical care at an Active Component military medical treatment facility (MTF); therefore, Military Treatment Records (MTRs) are not retained at an MTF. This distinct record set is also necessary for recruiting since the ARNG does not maintain records on medical waiver evaluations.

Routine uses of records maintained in the system, including categories of users and the purposes of such uses:

In addition to those disclosures generally permitted under 5 U.S.C. 552a(b) of the Privacy Act of 1974, as amended, these records contained therein may specifically be disclosed outside the DoD as a routine use pursuant to 5 U.S.C. 552a(b)(3) as follows:

Information may be disclosed to the Department of Veterans Affairs to adjudicate veterans' claims and provide medical care to Army members.

To the National Research Council, National Academy of Sciences, National Institutes of Health, Armed Forces Institute of Pathology, and similar institutions for authorized health research in the interest of the Federal Government and the public. When not essential for longitudinal studies, patient identification data shall be eliminated from records used for research studies. Facilities/activities releasing such records shall maintain a list of all such research organizations and an accounting disclosure of records released thereto.

To local and state government agencies for compliance with local laws and regulations governing control of communicable diseases, preventive medicine and safety, child abuse, and other public health and welfare programs.

To third party payers per 10 U.S.C. 1095 as amended by Public Law 99-272, Health care services incurred on behalf of covered beneficiaries: collection from third-party payers, for the purpose of collecting reasonable inpatient/outpatient hospital care costs incurred on behalf of retirees or dependents.

To former DoD health care providers, who have been identified as being the subjects of potential reports to the National Practitioner Data Bank as a result of a payment having been made on their behalf by the U.S. Government in response to a malpractice claim or litigation, for purposes of providing the provider an opportunity, consistent with current requirements and Army Regulation 40-68, Clinical Quality Management, to provide any pertinent information and to comment on expert opinions, relating to the claim for which payment has been made.

The DoD Blanket Routine Uses set forth at the beginning of the Army's systems of records notices may apply to this system.

Note: Records of identity, diagnosis, prognosis, or treatment of any client/patient, irrespective of whether or when he/she ceases to be a client/patient, maintained in connection with the performance of any alcohol or drug abuse prevention and treatment function conducted, regulated, or directly or indirectly assisted by any department or agency of the United States, shall, except as provided therein, be confidential and be disclosed only for the purposes and under the circumstances expressly authorized in 42 U.S.C. 290dd-2. This statute takes precedence over the Privacy Act of 1974 in regard to accessibility of such records except to the individual to whom the record pertains. The DoD Blanket Routine Uses do not apply to these types of records.

Note: This system of records contains individually identifiable health information. The DoD Health Information Privacy Regulation (DoD 6025.18-R) issued pursuant to the Health Insurance Portability and Accountability Act of 1996, applies to most such health information. DoD 6025.18-R may place additional procedural requirements on the uses and disclosures of such information beyond those found in the Privacy Act of 1974, as amended, or mentioned in this system of records notice.

Policies and practices for storing, retrieving, accessing, retaining, and disposing of records in the system:

Storage:

Paper records and electronic storage media.

Retrievability:

The patient surname, SSN, or internal tracking identification number.

Safeguards:

Records are maintained in a controlled facility. Physical entry is restricted by the use of locks, identification badges, key cards, guards, closed circuit TV, and is accessible only to authorized personnel. Access to records is limited to person(s) responsible for servicing the record in performance of their official duties and who are properly screened and cleared for need-to-know. Access to computerized data is restricted by Common Access Cards (CAC) and Personal Identity Verification (PIV) cards.

Retention and disposal:

Until the National Archives and Records Administration approves the disposition of these records, treat as permanent.

System manager(s) and address:

National Guard Bureau, Office of the Chief Surgeon, Army National Guard Readiness Center, 111 South George Mason Drive, Arlington, VA 22204-1373.

Notification procedure:

Individuals seeking to determine whether information about themselves is contained in this system should address written inquiries to the Army National Guard Joint Force Headquarters Office within their respective state for Army National Guard Soldiers and the United States Army Military Personnel Management Directorate for United States Army Reservists.

An individual must include a written signature and self-declaration citing that, under penalty of perjury, they are requesting records of themselves.

Requests should include the patient's full name, SSN and/or DoD ID Number and any other details which will assist in locating the record such as the name of the hospital and/or year of treatment of records they are seeking, as well as a full mailing address where records may be sent.

Record access procedures:

Individuals seeking access to information about themselves contained in this system should address written inquiries to the Army National Guard Joint Force Headquarters Office within their respective state for Army National Guardsmen and the United States Army G-1 Military Personnel Management Directorate for United States Army Reservists.

An individual must include a written signature and self-declaration citing that, under penalty of perjury, they are requesting records of themselves.

Requests should include the patient's full name, SSN and/or DoD ID Number and any other details which will assist in locating the record such as the name of the hospital and/or year of treatment of records they are seeking, as well as a full mailing address where records may be sent.

Contesting record procedures:

The Army's rules for accessing records, and for contesting contents and appealing initial agency determinations are contained in Army Regulation 340-21; 32 CFR part 505; or may be obtained from the system manager.

Record source categories:

From the individual, physicians, and medical personnel at military and non-military treatment facilities.

Exemptions claimed for the system:

None.

[FR Doc. 2014-22094 Filed 9-16-14; 8:45 am]

BILLING CODE 5001-06-P